DEPARTMENT OF TRANSPORTATION

Federal Aviation Administration

Twenty-First Meeting: RTCA Special Committee 214/EUROCAE WG-78: Standards for Air Traffic Data Communication Services

AGENCY: Federal Aviation Administration (FAA), U.S. Department of Transportation (DOT).

ACTION: RTCA Special Committee 214 held jointly with EUROCAE WG-78: Standards for Air Traffic Data Communication Services meeting.

SUMMARY: The FAA is issuing this notice to advise the public of twenty-first meeting of RTCA Special Committee 214 to be held jointly with EUROCAE WG-78: Standards for Air Traffic Data Communication Services.

DATES: The meeting will be held April 8-10, 2014 from 9:00 a.m. to 5:00 p.m.

ADDRESSES: The meeting will be held at Airtel-ATN, Royal Marine Hotel (http://royalmarine.ie/), Marine Road, Dun Laoghaire, Dublin, Ireland.

FOR FURTHER INFORMATION CONTACT: Sophie Bousquet, 202-330-0663, sbousquet@rtca.org or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 214/EUROCAE WG-78: Standards for Air Traffic Data Communication Services. The agenda will include the following:

April 8

• Welcome, Introductions, & Administrative

• Remarks/Welcome/Introduction/Administrative Remarks

• Approval of the Agenda

• Approval of the Minutes of Plenary 20 and Review Action Item Status

• Coordination Activities

• ICAO OPLINK

• ICAO ACP, Status of PM-CPDLC & PM-ADS Technical Provisions

• Working Group/Special committee organization for future work

• Revision A to Baseline 2 Standards—ATC Winds service Report Study familiarization

• Revision A to Baseline 2 Standards—Dynamic-RNP service ConOps familiarization

April 9

• Revision A to Baseline 2 Standards—Dynamic-RNP impacts on documents

• Revision A to Baseline 2 Standards—Advance-IM service ConOps familiarization

April 10

• Approval of the Final version of Baseline 2 (Initial) documents

• Approval of the Final version of DO-281B/ED-92B Change 1 and DO-224C Change 1

• Status/discussions on ATN VDL2 issues

• Wrap-up and confirm high-level roadmap for Revision A to Baseline 2 standards

• Review need for upcoming meetings and approve dates and locations of Plenary and SG Meetings

• Any Other Business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on March 18, 2014.
Paige L. Williams,
Management Analyst, Business Operations Group, ANG-A12, Federal Aviation Administration.

[FR Doc. 2014-06357 Filed 3-21-14; 8:45 am]

BILLING CODE 4910-13-P